DEPARTMENT OF LABOR

Vacancy Posting for a Member of the Administrative Review Board

ACTION: Vacancy posting correction.

SUMMARY: On September 26, 2019, the Office of the Assistant Secretary for Administration and Management published a vacancy posting for a member of the Administrative Review Board. That document included incorrect information in the Qualifications section. This document corrects the Qualifications information.

DATES: Effective on the date of publication.

FOR FURTHER INFORMATION CONTACT: John Sylvia, HR Specialist, Office of Executive Resources, Office of the Assistant Secretary for Administration and Management, U.S. Department of Labor, 200 Constitution Avenue NW, ATTN: Office of Executive Resources, Room N2453, Washington, DC 20210, phone: 774-365-6851. This is not a toll-free number.

SUPPLEMENTARY INFORMATION: In the Federal Register of September 26, 2019 (84 FR 50860), on page 50860, columns two and three, “Qualifications” should read: The applicant should be well versed in law and the appeals process, as well as have the ability to interpret regulations and to come to a consensus to determine an overall appeals determination with members of board. Applicants must possess a J.D. and are required to be active members of the Bar in any U.S. State of U.S. Territory Court under the U.S. Constitution.

Dated: September 27, 2019.
Bryan Slater,
Assistant Secretary for Administration & Management.

[FR Doc. 2019-21487 Filed 10-2-19; 8:45 am]

BILLING CODE 4510-04-P